DEPARTMENT OF ENERGY

Federal Energy Regulatory Commission

Combined Notice of Filings #1

Take notice that the Commission received the following Complaints and Compliance filings in EL Dockets:

Docket Numbers: EL23-53-000.

Applicants: Essential Power OPP, LLC, et al. v. PJM Interconnection, L.L.C.

Description: Supplement to the Complaint filed March 31, 2023 of Essential Power OPP, LLC, et al. v. PJM Interconnection, L.L.C.

Filed Date: 6/23/23.

Accession Number: 20230623-5194.

Comment Date: 5 p.m. ET 7/24/23.

Take notice that the Commission received the following electric rate filings:

Docket Numbers: ER10-2354-012.

Applicants: Midway-Sunset Cogeneration Company.

Description: Supplement to May 2, 2023, Notice of Non-Material Change in Status of Midway-Sunset Cogeneration Company.

Filed Date: 6/28/23.

Accession Number: 20230628-5193.

Comment Date: 5 p.m. ET 7/19/23.

Docket Numbers: ER23-1894-000.

Applicants: Pome BESS LLC.

Description: Supplement to May 16, 2023 Pome BESS LLC tariff filing.

Filed Date: 6/30/23.

Accession Number: 20230630-5416.

Comment Date: 5 p.m. ET 7/21/23.

Docket Numbers: ER23-2326-000.

Applicants: PJM Interconnection, L.L.C.

Description: § 205(d) Rate Filing: Amendment to ISA, Service Agreement No. 6705; Queue No. AE1-056 to be effective 8/1/2023.

Filed Date: 7/3/23.

Accession Number: 20230703-5060.

Comment Date: 5 p.m. ET 7/24/23.

Docket Numbers: ER23-2327-000.

Applicants: PJM Interconnection, L.L.C.

Description: PJM Interconnection, L.L.C. Request for Approval to Recover Penalty Charges Assessed by the North American Electric Reliability Corporation.

Filed Date: 6/30/23.

Accession Number: 20230630-5413.

Comment Date: 5 p.m. ET 7/21/23.

Docket Numbers: ER23-2328-000.

Applicants: Southwest Power Pool, Inc.

Description: § 205(d) Rate Filing: 3125R14 Basin Electric Power Cooperative NITSA and NOA to be effective 6/1/2023.

Filed Date: 7/3/23.

Accession Number: 20230703-5091.

Comment Date: 5 p.m. ET 7/24/23.

Docket Numbers: ER23-2329-000.

Applicants: Southwest Power Pool, Inc.

Description: § 205(d) Rate Filing: 1628R23 Western Farmers Electric Cooperative NITSA NOAs to be effective 6/1/2023.

Filed Date: 7/3/23.

Accession Number: 20230703-5099.

Comment Date: 5 p.m. ET 7/24/23.

Docket Numbers: ER23-2330-000.

Applicants: Upper Missouri G. & T. Electric Cooperative, Inc.

Description: § 205(d) Rate Filing: Administrative Filing to Correct eTariff Records 07.03.23 to be effective 7/31/2022.

Filed Date: 7/3/23.

Accession Number: 20230703-5148.

Comment Date: 5 p.m. ET 7/24/23.

Docket Numbers: ER23-2331-000.

Applicants: PJM Interconnection, L.L.C.

Description: § 205(d) Rate Filing: First Revised ISA, Service Agreement No. 5808; Queue No. AD1-039 to be effective 6/1/2023.

Filed Date: 7/3/23.

Accession Number: 20230703-5177.

Comment Date: 5 p.m. ET 7/24/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: July 3, 2023.
Debbie-Anne A. Reese,
Deputy Secretary.

[FR Doc. 2023-14492 Filed 7-7-23; 8:45 am]

BILLING CODE 6717-01-P